NATIONAL SCIENCE FOUNDATION

Notice of Intent To Extend an Information Collection

AGENCY: National Science Foundation.

ACTION: Notice and Request for Comments.

SUMMARY: The National Science Foundation (NSF) is announcing plans to request renewal of the Survey of Earned Doctorates (OMB No. 3145-0019). In accordance with the Paperwork Reduction Act of 1995, we are providing opportunity for public comment on this action. After obtaining and considering public comment, NSF will prepare the submission requesting that OMB approve clearance of this collection for three years.

DATES: Written comments on this notice must be received by November 14, 2016, to be assured of consideration. Comments received after that date will be considered to the extent practicable.

FOR ADDITIONAL INFORMATION OR COMMENTS: Contact Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays). You also may obtain a copy of the data collection instrument and instructions from Ms. Plimpton.

SUPPLEMENTARY INFORMATION: Comments: Comments are invited on: (a) Whether the proposed collection of information is necessary for the proper performance of the functions of the NSF, including whether the information shall have practical utility; (b) the accuracy of the NSF's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Title of Collection: Survey of Earned Doctorates.

OMB Control Number: 3145-0019.

Expiration Date of Current Approval: May 31, 2018.

Type of Request: Intent to seek approval to extend an information collection for three years.

1. Abstract: Established within the National Science Foundation by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. The Survey of Earned Doctorates (SED) is part of an integrated survey system that collects data on individuals in an effort to provide information on science and engineering education and careers in the United States.

The SED has been conducted annually since 1958 and is jointly sponsored by the National Science Foundation, National Institutes of Health, U.S. Department of Education, and National Endowment for the Humanities in order to avoid duplication. It is an accurate, timely source of information on one of our Nation's most important resources—highly educated individuals. Data are obtained via Web survey or paper questionnaire from each person earning a research doctorate at the time they receive the degree. Data are collected on their field of specialty, educational background, sources of support in graduate school, debt level, postgraduation plans, and demographic characteristics.

The Federal government, universities, researchers, and others use the information extensively. The National Science Foundation, as the lead agency, publishes statistics from the survey in several reports, but primarily in the annual publication series Doctorate Recipients from U.S. Universities. These reports are available on the NSF Web site.

The survey will be collected in conformance with the Privacy Act of 1974. Responses from individuals are voluntary. NSF will ensure that all individually identifiable information collected will be kept strictly confidential and will be used only for research or statistical purposes.

2. Use of the Information: Results from the SED are used to assess characteristics of the doctorate population and trends in doctoral education and degrees by researchers, policy makers, universities, and government agencies. Data from the survey are published annually on the NCSES Web site in a publication series reporting on all fields of study, titled Doctorate Recipients from U.S. Universities. Information from the SED is also included in other series available online: Science and Engineering Degrees; Science and Engineering Degrees, by Race/Ethnicity of Recipients; Science and Engineering Indicators; and Women, Minorities, and Persons with Disabilities in Science and Engineering. In addition, access to tabular data from selected variables is available through WebCASPAR, an online table-generating tool on the NCSES Web site.

3. Expected Respondents: The SED is a census of all individuals receiving a research doctorate from an accredited U.S. academic institution in the academic year beginning 1 July and ending 30 June of the subsequent year. As such, the population for the 2018 SED consists of all individuals receiving a research doctorate in the 12-month period beginning 1 July 2017 and ending 30 June 2018. Likewise, the population for the 2019 SED consists of all individuals receiving a research doctorate in the 12-month period beginning 1 July 2018 and ending 30 June 2019. A research doctorate is a doctoral degree that (1) requires completion of an original intellectual contribution in the form of a dissertation or an equivalent culminating project (e.g., musical composition) and (2) is not primarily intended as a degree for the practice of a profession. The most common research doctorate degree is the Ph.D. Recipients of professional doctoral degrees only, such as MD, DDS, JD, DPharm, and PsyD, are not included in the SED. The 2018 and 2019 SED are expected to include about 580 separately reporting doctoral programs from among approximately 455 eligible research doctorate-granting institutions.

4. Estimate of Burden: A total response rate of 90% of the 55,006 persons who earned a research doctorate from a U.S. institution was obtained in academic year 2015. This level of response rate has been consistent for several years. Based on the historical trend, in 2018 approximately 58,000 individuals are expected to receive research doctorates from U.S. institutions. Using the past response rate, the number of SED respondents in 2018 is estimated to be 52,200 (58,000 doctorate recipients × 0.90 response rate). Similarly, the number of individuals expected to earn research doctorates in 2019 is estimated to be about 59,000; hence, the number of respondents in 2019 is estimated to be 53,100 (59,000 × 0.90).

Based on the average Web survey completion time for the 2017 SED (19 minutes) and the extension of a few questions to an additional subset of respondents, NSF estimates that, on average, 21 minutes per respondent will be required to complete the 2018 or 2019 SED questionnaire. The annual respondent burden for completing the SED is therefore estimated at 18,270 hours in 2018 (52,200 respondents × 21 minutes) and 18,585 hours in 2019 (based on 53,100 respondents).

In addition to the actual questionnaire, the SED requires the collection of administrative data from participating academic institutions. The Institutional Coordinator at the institution helps distribute the Web survey link (and paper surveys when necessary), track survey completions, and submit information to the SED survey contractor. Based on focus groups conducted with Institutional Coordinators, it is estimated that the SED demands no more than 1% of the Institutional Coordinator's time over the course of a year, which computes to 20 hours per year per Institutional Coordinator (40 hours per week × 50 weeks per year × .01). With about 580 programs expected to participate in the SED in 2018 and 2019, the estimated annual burden to Institutional Coordinators of administering the SED is 11,600 hours.

Therefore, the total annual information burden for the SED is estimated to be 29,870 hours in 2018 (18,270 + 11,600) and 30,185 hours in 2019 (18,585 + 11,600). This is higher than the last annual estimate approved by OMB due to the increased number of respondents (doctorate recipients) and the increased number of survey questions being asked of each respondent.

Authority: Section 3506(c)(2)(A) of the Paperwork Reduction Act of 1995 (Pub. L. 104-13)

Dated: September 13, 2016.
Suzanne H. Plimpton,
Reports Clearance Officer, National Science Foundation.

[FR Doc. 2016-22285 Filed 9-15-16; 8:45 am]

BILLING CODE 7555-01-P